DEPARTMENT OF THE INTERIOR

Bureau of Land Management

[NM-030-5440-EU-G503; NMNM10171]

Realty Action; Conveyance of Public Land; Dona Ana County, NM

AGENCY: Bureau of Land Management (BLM), Interior.

ACTION: Notice of realty action; airport conveyance to the Village of Hatch.

SUMMARY: The following public land in Dona Ana County, New Mexico has been found suitable for conveyance to the Village of Hatch for airport purpose under the Act of May 24, 1928, as amended, and Section 516 of the Airport and Airway Improvement Act of 1982.

T. 19 S., R. 3 W., NMPM

Section 18: Lots 1 and 2.

T. 19 S., R. 4 W.,

Section 12: S½SW¼, S½SW¼SE¼;

Section 13: N½NE¼, N½SE¼NE¼, N½N½NW¼.

Containing approximately 320 acres.

DATES: Comments regarding the proposed conveyance must be submitted on or before November 27, 2000.

ADDRESSES: Comments should be sent to the Bureau of Land Management, Las Cruces Field Office, 1800 Marquess Street, Las Cruces, New Mexico 88005.

FOR FURTHER INFORMATION CONTACT: Gilda Fitzpatrick, Realty Specialist, at the address above or at (505) 524-4454.

SUPPLEMENTARY INFORMATION: Conveyance of the land is consistent with applicable Federal and county land use plans and will help meet the needs of Dona Ana County residents for air transportation.

The conveyance will contain reservations to the United States for ditches, canals and all minerals. Additionally, the conveyance will be subject to rights of record including right-of-way NMNM 28109, to Caballo Natural Resource Conservation District for the Denson Sims Watershed Project. Specific covenants required by the Federal Aviation Administration will also be included in the conveyance and are available by contacting the BLM Las Cruces Field Office.

The conveyance is consistent with the BLM Mimbres Resource Management Plan.

The land is not required for any other Federal purpose.

This notice segregates the above described public land from all forms of appropriation under the public land laws, including the general mining laws, except application for airport purposes and leasing under the mineral leasing laws.

On or before November 27, 2000, interested parties may submit comments regarding the proposed conveyance to the Bureau of Land Management, Las Cruces Field Office, 1800 Marquess Street, Las Cruces, New Mexico 88005. In the absence of any objections, the decision to approve this realty action will become the final determination of the Department of the Interior.

Dated: October 5, 2000.
Amy L. Lueders,
Field Manager.

[FR Doc. 00-26140 Filed 10-11-00; 8:45 am]

BILLING CODE 4310-VC-P